DEPARTMENT OF TRANSPORTATION

Federal Aviation Administration

14 CFR Part 73

[Airspace Docket No. 00-ANM-10]

RIN 2120-AA66

Subdivision of Restricted Areas R-6412A and R-6412B, and Establishment of R-6412C and R-6412D, Camp Williams, UT

AGENCY: Federal Aviation Administration (FAA), DOT.

ACTION: Final rule.

SUMMARY: This action modifies Restricted Area R-6412A and R-6412B, Camp Williams, Utah, by subdividing the two areas into four separate areas designated as R-6412A, R-6412B, R-6412C, and R-6412D. The dimensions of R-6412 will remain the same, however, the internal modification of the present R-6412A and R-6412B and subsequent establishment of R-6412C and R-6412D will enable the military to activate only that portion of the airspace that is actually needed to contain their operations.

EFFECTIVE DATE: 0901 UTC, January 25, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

As a result of a recent review of R-6412 airspace, the U.S. Army has requested that the FAA take action to internally subdivide the two subareas in R-6412 into four subareas. Dividing the airspace into four subareas will enhance traffic management, allow for more efficient real-time use of the airspace, and allow more public access. The subdivision will allow for smaller parts of the airspace to be used for military training while allowing public use of the non-active parts. This action does not require any change in the existing external boundaries.

The Rule

This action amends 14 CFR part 73 by subdividing R-6412A, and R-6412B, and by establishing R-6412C and R-6412D. There are no changes to the external boundaries, altitudes, time of designation or activities conducted within the restricted area. This action further subdivides an existing restricted area. As the solicitation of comments would not offer any meaningful right or benefit to any segment of the public, notice and public procedure under 5 U.S.C. 553(b) are unnecessary.

Section 73.64 of part 73 was republished in FAA Order 7400.8H, dated September 1, 2000.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Environmental Review

This action is a minor administrative change to further internally subdivide an existing Restricted Area. There are no changes to air traffic control procedures or routes as a result of this action. Therefore, this action is not subject to environmental assessments and procedures in accordance with FAA Order 1050.1D, “Policies and Procedures for Considering Environmental Impacts,” and the National Environmental Policy Act of 1969.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.64 [Amended]

2. § 73.64 is amended as follows:

* * * * *

R-6412A Camp Williams, UT [Amended]

Boundaries: Beginning at lat. 40°27′30″ N., long. 112°00′00″ W.; thence to lat. 40°23′30″ N., long. 112°00′00″ W.; to lat. 40°23′30″ N., long. 112°06′03″ W.; to lat. 40°27′30″ N., long. 112°06′03″ W.; to the point of beginning.

Designated altitudes: Surface to 9,000 feet MSL.

Time of designation: By Notice to Airman (NOTAM).

Controlling agency: FAA, Salt Lake City TRACON.

Using agency: The Adjutant General, UT.

R-6412B Camp Williams, UT [Amended]

Boundaries: Beginning at lat. 40°27′30″ N., long. 112°00′00″ W.; thence to lat. 40°23′30″ N., long. 112°00′00″ W.; to lat. 40°23′30″ N., long. 112°06′03″ W.; to lat. 40°27′30″ N., long. 112°06′03″ W.; to the point of beginning.

Designated altitudes: 9,000 feet to 10,000 feet MSL.

Time of designation: By Notice to Airman (NOTAM).

Controlling agency: FAA, Salt Lake City TRACON.

Using agency: The Adjutant General, UT.

R-6412C Camp Williams, UT [New]

Boundaries: Beginning at lat. 40°27′30″ N., long. 111°56′27″ W.; thence southerly along Redwood Road (Utah Highway 68) to lat. 40°23′30″ N., long. 111°55′01″ W.; to lat. 40°23′30″ N., long. 112°00′00″ W.; to lat. 40°27′30″ N., long. 112°00′00″ W.; to the point of beginning.

Designated altitudes: Surface to 9,000 feet MSL.

Time of designation: By Notice to Airman (NOTAM).

Controlling agency: FAA, Salt Lake City TRACON.

Using agency: The Adjutant General, UT.

R-6412D Camp Williams, UT [New]

Boundaries: Beginning at lat. 40°27′30″ N., long. 111°56′27″ W.; thence southerly along Redwood Road (Utah Highway 68) to lat. 40°23′30″ N., long. 111°55′01″ W.; to lat. 40°23′30″ N., long. 112°00′00″ W.; to lat. 40°27′30″ N., long. 112°00′00″ W.; to the point of beginning.

Designated altitudes: 9,000 feet to 10,000 feet MSL.

Time of designation: By Notice to Airman (NOTAM).

Controlling agency: FAA, Salt Lake City TRACON.

Using agency: The Adjutant General, UT.

* * * * *

Issued in Washington, DC, on September 27, 2000.
Reginald C. Matthews,
Manager, Airspace and Rules Division.

[FR Doc. 00-25644 Filed 10-4-00; 8:45 am]

BILLING CODE 4910-13-P